DEPARTMENT OF HOMELAND SECURITY

Office of the Secretary

[Docket No. DHS-2008-0147]

Privacy Act of 1974; United States Coast Guard-007 Exceptional Family Member Program Records System of Records

AGENCY: Privacy Office; DHS.

ACTION: Notice of Privacy Act system of records.

SUMMARY: In accordance with the Privacy Act of 1974, and as part of the Department of Homeland Security Privacy Office's ongoing effort to review and update legacy system of record notices the Department of Homeland Security is giving notice that it proposes to update and reissue the following legacy record system, DOT/CG 641 Coast Guard Special Needs Program as a Department of Homeland Security system of records notice titled, United States Coast Guard Exceptional Family Member Program. This system will allow the Department of Homeland Security/United States Coast Guard to collect and maintain records on civilian, active duty, reserve, retired active duty and retired reserve military personnel, and their eligible dependents identified as exceptional family members. Categories of individuals, categories of records, and the routine uses of this legacy system of records notice have been reviewed and updated to better reflect the Department of Homeland Security/United States Coast Guard's exceptional family member record system. This new system will be included in the Department of Homeland Security's inventory of record systems.

DATES: Written comments must be submitted on or before January 12, 2009. This new system will be effective January 12, 2009.

ADDRESSES: You may submit comments, identified by docket number DHS-2008-0147 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change to http://www.regulations.gov, including any personal information provided.

• Docket: For access to the docket, to read background documents, or comments received go to http://www.regulations.gov.

FOR FURTHER INFORMATION CONTACT: For general questions please contact: David Roberts (202-475-3521), Privacy Officer, United States Coast Guard. For privacy issues please contact: Hugo Teufel III (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS)/United States Coast Guard (USCG) have relied on preexisting Privacy Act system of records notices for the collection and maintenance of records that concern the USCG military and civilian personnel and, when applicable, their eligible dependents identified as exceptional family members.

As part of its efforts to streamline and consolidate its record systems, DHS/USCG is updating and reissuing a system of records under the Privacy Act (5 U.S.C. 552a) that deals with USCG military personnel, civilian personnel and their eligible dependents identified as exceptional family members. The system will allow DHS/USCG to collect and maintain records on USCG military personnel, civilian personnel and their eligible dependents identified as exceptional family members. The collection and maintenance of this information will assist DHS/USCG in meeting its obligation to assist military personnel, civilian personnel and their eligible dependents identified as exceptional family members.

In accordance with the Privacy Act of 1974, and as part of the DHS Privacy Office's ongoing effort to review and update legacy system of record notices the DHS is giving notice that it proposes to update and reissue the following legacy record system DOT/CG 641 Coast Guard Special Needs Program (65 FR 19476 4/11/2000) as a DHS/USCG system of records notice titled, USCG Exceptional Family Member Program. This system will allow the Department of Homeland Security/United States Coast Guard to collect and maintain records on civilians, active duty, reserve, retired active duty and retired reserve military personnel, and their eligible dependents identified as exceptional family members. Categories of individuals, categories of records, and the routine uses of this legacy system of records notice have been reviewed and updated to better reflect the DHS/USCG's exceptional family member record system. This new system will be included in DHS's inventory of record systems.

II. Health Insurance Portability and Accountability Act

This system of records contains individually identifiable health information. The Department of Defense Health Information Privacy Regulation (DoD 6025.18-R) issued pursuant to the Health Insurance Portability and Accountability Act of 1996, applies to most such health information. Department of Defense 6025.18-R may place additional procedural requirements on the uses and disclosures of such information beyond those found in the Privacy Act of 1974 or mentioned in this system of records notice.

III. Privacy Act

The Privacy Act embodies fair information principles in a statutory framework governing the means by which the United States Government collects, maintains, uses and disseminates individuals' records. The Privacy Act applies to information that is maintained in a “system of records.” A “system of records” is a group of any records under the control of an agency from which information is stored and retrieved by the name of the individual or by some identifying number such as property address, or mailing address symbol, assigned to the individual. In the Privacy Act, an individual is defined to encompass United States citizens and legal permanent residents. DHS extends administrative Privacy Act protections to all individuals where information is maintained on both U.S. citizens, lawful permanent residents, and visitors. Individuals may request their own records that are maintained in a system of records in the possession or under the control of DHS by complying with DHS Privacy Act regulations, 6 CFR 5.21.

The Privacy Act requires each agency to publish in the Federal Register a description denoting the type and character of each system of records that the agency maintains, and the routine uses that are contained in each system in order to make agency record keeping practices transparent, to notify individuals regarding the uses of their records, and to assist individuals to more easily find such files within the agency. Below is the description of the DHS/USCG Exceptional Family Member system of records.

In accordance with 5 U.S.C. 552a(r), DHS has provided a report of this new system of records to the Office of Management and Budget and to Congress.

System of Records: DHS/USCG-007

System name:

United States Coast Guard Exceptional Family Member Program.

Security classification:

Unclassified.

System location:

Records are maintained at USCG Headquarters in Washington, DC and field locations.

Categories of individuals covered by the system:

Coast Guard active duty, reserve, retired active duty, retired reserve, and civilian personnel and their eligible dependents who have a long-term physical or mental chronic condition that substantially limits one or more of the major life activities of an individual including professionally diagnosed medical, physical, psychological, and/or educational disabilities.

Categories of records in the system:

Categories of records in this system include:

• Military or civilian personnel's name;

• Eligible dependent's name and birth date;

• Service member's, civilian's or eligible dependents home address, phone numbers, and e-mail information;

• Identification number (EMPLID); social security numbers of the service member or civilian personnel are currently in the case records (we will no longer be asking for those in the new policy, but the numbers will still be in all of the old files);

• Eligible dependent's diagnosed special need, including copies of medical, educational, and psychological reports, enrollment forms, correspondence and follow-up, and any other data relevant to the dependent's individual special needs' program files; and

• Benefits, including case management activities, and supports and services received related to the special need.

Authority for maintenance of the system:

The Homeland Security Act of 2002, Public Law 107-296, Federal Records Act, 44 U.S.C. 3101; 6 CFR Part 5; 5 U.S.C. 301, and COMNDTINST 1754.7 (series).

Purpose(s):

The purpose of this system is to administer exceptional family member needs requests of USCG military and civilian personnel to coordinate the exceptional family member program's medical care, mental health treatment, and to provide case management for USCG military and civilian personnel and eligible dependants identified as exceptional family members.

Routine uses of records maintained in the system, including categories of users and the purposes of such uses:

This system of records contains individually identifiable health information. The Department of Defense Health Information Privacy Regulation (DoD 6025.18-R) issued pursuant to the Health Insurance Portability and Accountability Act of 1996, applies to most such health information. Department of Defense 6025.18-R may place additional procedural requirements on the uses and disclosures of such information beyond those found in the Privacy Act of 1974 or mentioned in this system of records notice.

In addition to those disclosures generally permitted under 5 U.S.C. 552a(b) of the Privacy Act, all or a portion of the records or information contained in this system may be disclosed outside DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. any employee of DHS in his/her official capacity;

3. any employee of DHS in his/her individual capacity where DOJ or DHS has agreed to represent the employee; or

4. the United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To any member of the family when a signed release of information is documented in the case record, in furtherance of treating the family member with special needs.

I. To officials and employees of local and state governments and agencies in the performance of their official duties pursuant to the laws and regulations governing local control of communicable diseases, preventive medicine and safety programs, developmental disabilities, and other public health and welfare programs.

K. To the Federal, state or local governmental agencies when appropriate in the counseling and treatment of individuals or families with special medical or educational needs, or receiving early intervention or related services.

Disclosure to consumer reporting agencies:

None.

Policies and practices for storing, retrieving, accessing, retaining, and disposing of records in the system:

Storage:

Records in this system are stored electronically or on paper in a locked drawer behind a locked door. The records are stored on magnetic disc, tape, digital media, and CD-ROM.

Retrievability:

Data may be retrieved by a Coast Guard military or civilian personnel's name and/or identification number (EMPLID),

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

Case records are maintained at a decentralized location until the USCG military or civilian personnel is separated or retired, eligible family member is no longer an eligible dependent, or the eligible dependent is no longer diagnosed as having a special need. Upon separation or retirement of the USCG military or civilian personnel, the eligible family member is no longer an eligible dependent, or when the eligible dependent is no longer diagnosed as having a special need, the record will be transferred to Commandant, CG-1112. After a 3-year retention, the record is destroyed.

System Manager and address:

Chief, Office of Work-Life, Director of Health, Safety and Work-Life, CG-11, United States Coast Guard, Washington, DC 20593-0001.

Notification procedure:

Individuals seeking notification of and access to any open record contained in this system of records, or seeking to contest its content, may submit a request in writing to the Work-Life field office where the case record is maintained. Individuals seeking notification of and access to any closed record contained in this system of records, or seeking to contest its content, may submit a request in writing to the Chief, Office of Work-Life, Director of Health, Safety and Work-Life, CG-11, United States Coast Guard, Washington, DC 20593-0001.

When seeking records about yourself or your minor dependent from this system of records or any other USCG system of records your request must conform with the Privacy Act regulations set forth in 6 CFR part 5. You must first verify your identity, meaning that you must provide your full name, current address and date and place of birth. You must sign your request, and your signature must either be notarized or submitted by you under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the USCG may not be able to conduct an effective search, and your request may be denied due to lack of specificity or lack of compliance with applicable regulations.

Record access procedures:

See “Notification procedure” above.

Contesting record procedures:

See “Notification procedure” above.

Record source categories:

Information originates medical reports given to the USCG.

Exemptions claimed for the system:

None.

Dated: December 2, 2008.
Hugo Teufel III,
Chief Privacy Officer, Department of Homeland Security.

[FR Doc. E8-29397 Filed 12-10-08; 8:45 am]

BILLING CODE 4410-10-P